DEPARTMENT OF THE INTERIOR

Bureau of Land Management

[L.LLIDT02000.L12200000.MA0000.252Z.00]

Notice of Temporary Closure of Castle Rocks Inter-Agency Recreation Area in Cassia County, ID

AGENCY: Bureau of Land Management, Interior.

ACTION: Notice of Temporary Closure.

SUMMARY: Notice is hereby given that a temporary closure prohibiting climbing of all types, overnight camping, and the construction of new trails is in effect on public lands within the Castle Rocks Inter-Agency Recreation Area that are administered by the Burley Field Office, Bureau of Land Management.

DATES: This closure will be in effect from the date of publication of this notice and shall remain effective for 24 months from the date this notice is published in the Federal Register, or until a decision on management of this area is reached in a Land Use Plan Revision for the Burley Field Office, whichever is earlier.

FOR FURTHER INFORMATION CONTACT: Michael Courtney, Field Manager, Burley Field Office, 15 East 200 South, Burley, Idaho 83318. Telephone (208) 677-6641. Persons who use a telecommunications device for the deaf (TDD) may call the Federal Information Relay Service (FIRS) at 1-800-877-8339 to contact the above individuals during normal business hours. The FIRS is available 24 hours a day, seven days a week, to leave a message or question with the above individuals. You will receive a reply during normal business hours.

SUPPLEMENTARY INFORMATION: This closure affects 400 acres of public lands administered by the BLM at Castle Rocks Inter-Agency Recreation Area in Cassia County, Idaho. Lands in the area managed by the U.S. Forest Service or the Idaho Department of Parks and Recreation are not part of this closure order. The legal description of the affected public lands is:

Boise Meridian

T. 15 S, R. 24 E., sec. 8, NE¼NE¼, W½ NE¼, NW¼, and NW¼ SW¼; and sec. 17, SE¼ NE¼ and NE¼ SE¼.

Containing 400 acres, more or less.

The closure is necessary to prevent adverse cumulative effects to historic properties (defined under 36 CFR 800.16). This closure notice will be posted at the entry points to the Castle Rocks Area and at the BLM, Burley Field Office. Maps of the affected area and other documents associated with this closure will be posted at the BLM Burley Field Office, 15 East 200 South, Burley, Idaho.

The BLM will enforce the following rule on the lands the agency manages within Castle Rocks Inter-Agency Recreation Area:

Climbing, camping, and the construction of new trails are prohibited.

Exemptions: The following persons are exempt from this order: Federal, State, or local officials and employees in the performance of their official duties; members of organized rescue or fire-fighting forces in the performance of their official duties; and persons with written authorization from the Bureau of Land Management.

Penalties: Any person who violates the above rule(s) and/or restrictions(s) may be tried before a United States Magistrate and fined no more than $1,000, imprisoned for no more than 12 months, or both. Such violations may also be subject to the enhanced fines provided for by 18 U.S.C. 3571.

Authority: 43 CFR 8364.1.

Michael Courtney,
Field Manager, BLM Burley Field Office.

[FR Doc. 2010-28723 Filed 11-15-10; 8:45 am]

BILLING CODE 4310-GG-P